DEPARTMENT OF ENERGY

Federal Energy Regulatory Commission

[Docket No. CP02-18-000]

Dominion Transmission, Inc.; Notice of Request Under Blanket Authorization

November 8, 2001.

Take notice that on November 1, 2001, Dominion Transmission, Inc. (DTI), 445 West Main Street, Clarksburg, West Virginia 26301, filed in Docket No. CP02-18-000 a request pursuant to sections 157.205 and 157.208 of the Commission's Regulations under the Natural Gas Act (18 CFR 157.205 and 157.208) for authorization to uprate the maximum allowable operating pressure (MAOP) of Line 257-S from 940 psig to 1100 psig, located in Potter County, Pennsylvania, under DTI's blanket certificate issued in Docket No. CP82-537-000 pursuant to section 7 of the Natural Gas Act, all as more fully set forth in the request which is on file with the Commission and open to public inspection. This filing may be viewed on the web at http://www.ferc.gov using the “RIMS” link, select “Docket #” from the RIMS Menu and follow the instructions (please call 202-208-2222 for assistance).

DTI proposes to uprate the MAOP of Line 257-S from 940 psig to 1100 psig, which is part of DTI's Sharon Storage Complex, and is located in Potter County, Pennsylvania. DTI indicates that the diameter of Line 257-S is mostly 12-inch with a small portion of the line being 16-inch pipe. On April 30, 1987, Consolidated Natural Gas Transmission Corporation (Consolidated), predecessor of DTI, indicates that it filed an application in Docket No. CP 87-314-000, seeking a certificate of public convenience and necessity, authorizing it to develop additional underground capacity in the Sharon Storage Pools. In the filing, DTI states that Consolidated proposed to install compression, increase the base gas level, and replace certain of the gathering system lines within the pool. DTI avers that Line 257-S was not replaced. DTI declares that at that time, the station discharge pressure was anticipated to be 940 psig, the MAOP of Line 257-S.

DTI states that in 1995, Line 257-S was hydro-tested, resulting in the ability to increase the MAOP from 940 psig to 1100 psig. DTI asserts that it would now like to utilize Line 257-S at an increased MAOP. DTI indicates that the requested MAOP of 1100 psig is below both the 2200 psig MAOP of the gathering system and the 1900 psig surface pressure at discovery of the Sharon Storage Complex.

DTI avers that the uprating of this storage pipeline will have no effect on the design capacity of the Sharon Storage Complex nor on the design capacity of the DTI system. DTI states that no new facilities are required. Therefore, DTI declares that there is no cost to DTI, or its customers, associated with increasing the certificated MAOP of this storage pipeline to 1100 psig.

Any questions regarding the application should be directed to Sean R. Sleigh, Certificates Manager, Dominion Transmission, Inc. 445 West Main Street, Clarksburg, West Virginia 26301, at (304) 627-3462 or Fax: (304) 627-3305.

Any person or the Commission's staff may, within 45 day after issuance of the instant notice by the Commission, file pursuant to Rule 214 of the Commission's Procedural Rules (18 CFR 385.214) a motion to intervene or notice of intervention and pursuant to section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to section 7 of the Natural Gas Act. Comments and protests may be filed electronically via the internet in lieu of paper. See, 18 CFR 385.2001(a)(1)(iii) and the instructions on the Commission's web site under the “e-Filing” link.

David P. Boergers,
Secretary.

[FR Doc. 01-28589 Filed 11-14-01; 8:45 am]

BILLING CODE 6717-01-P